DEPARTMENT OF THE INTERIOR

Fish and Wildlife Service

[FWS-R3-ES-2013-N043; FXES11130300000F3-134-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before April 15, 2013.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE98032A

Applicant: James E. Gardner, Jefferson City, MO.

The applicant requests a permit to take (capture and release) Indiana bats (Myotis sodalis), Gray bats (Myotis grisescens), and Ozark big-eared bats (Corynorhinus townsendii ingens) throughout the States of Arkansas, Illinois, Iowa, Kansas, Kentucky, Minnesota, Missouri, Oklahoma, and Tennessee. Proposed activities are for the recovery and enhancement of survival of the species in the wild.

Permit Application Number: TE38769A

Applicant: Sarah A. Bradley, Mark Twain National Forest, Salem, MO.

The applicant requests a permit renewal to take (capture and release) Indiana bats and gray bats within the Mark Twain National Forest, Missouri. Proposed activities are for the recovery and enhancement of survival of the species in the wild.

Permit Application Number: TE98039A

Applicant: Kevin J. Roe, Iowa State University, Ames, IA.

The applicant requests a permit to take (capture, sample, and collect) the Iowa Pleistocene Snail (Discus maccklintocki) within Iowa and Illinois. The proposed scientific research is for the conservation and recovery of the species in the wild.

Permit Application Number: TE77530A

Applicant: Douglas J. Kapusinski, Cleveland, OH.

The applicant requests a permit amendment to take (capture and release) the following mussels within the States of Illinois, Indiana, Michigan, New York, Ohio, Pennsylvania, West Virginia, and Wisconsin:

Dwarf wedgemussel—Alasmidonta heterodon

Spectaclecase—Cumberlandia monodonta

Fanshell—Cyprogenia stegaria

Purple Catspaw—Epioblasma obliquata obliquata

White Catspaw—Epioblasma obliquata perobliqua

Northern riffleshell—Epioblasma torulosa rangiana

Tubercled blossom—Epioblasma torulosa torulosa

Snuffbox—Epioblasma triquetra

Cracking pearlymussel—Hemistena lata

Pink mucket—Lampsilis abrupta

Higgins eye pearlymussel—Lampsilis higginsii

Scaleshell—Leptodea leptodon

Ring pink—Obovaria retusa

White wartyback—Plethobasus cicatricosus

Orangefoot pimpleback—Plethobasus cooperianus

Sheepnose—Plethobasus cyphyus

Clubshell—Pleurobema clava

James spinymussel—Pleurobema collina

Rough pigtoe—Pleurobema plenum

Fat pocketbook—Potamilus capax

Winged mapleleaf—Quadrula fragosa

Rayed bean—Villosa fabalis

Proposed activities are for the recovery and enhancement of survival of the species in the wild.

Permit Application Number: TE207178

Applicant: Amy L. Halsall, Aurora, IL.

The applicant requests a renewed permit to take (capture and release) Indiana bats within the States of Illinois and Indiana. Proposed activities are for the recovery and enhancement of survival of the species in the wild.

Permit Application Number: TE98057A

Applicant: Lynda M. Mills, Festus, MO.

The applicant requests a renewed permit to take (capture and release) Indiana bats and Gray bats within the State of Missouri. Proposed activities are for the recovery and enhancement of survival of the species in the wild.

Permit Application Number: TE181256

Applicant: Lewis Environmental Consulting, LLC, Murray, KY.

The applicant requests a permit amendment to add the rabbitsfoot mussel (Quadrula cylindrica cylindrica) to the list of species covered under the permit and to include authorization to work within the State of Michigan. Proposed activities are for the enhancement of survival and recovery of mussel species in the wild.

Permit Application Number: TE98063A

Applicant: Kathryn M. Womack, Columbia, MO.

The applicant requests a permit to take (capture and release) Indiana bats and gray bats within the State of Missouri. Proposed activities are for the recovery and enhancement of survival of the species in the wild.

Permit Application Number: TE207526

Applicant: Columbia Environmental Research Center, U.S. Geological Survey, Columbia, MO.

The applicant requests a permit amendment to take (capture, sample, release; capture and hold) Pallid Sturgeon (Scaphirhyncus albus) within the Missouri River and Middle Mississippi River. Proposed research activities are for the conservation and recovery of the species in the wild.

Permit Application Number: TE135297

Applicant: Saint Louis Zoo, St. Louis, MO.

The applicant requests a permit renewal and amendment to take (capture and release; capture and hold) American burying beetle (Nicrophorus americanus) within the States of Missouri and Arkansas, and at the Zoo facility in St. Louis, MO. Proposed activities are for the propagation and enhancement of survival of the species in the wild.

Permit Application Number: TE38789A

Applicant: BHE Environmental, Inc., Cincinnati, OH.

The applicant requests a permit renewal and amendment to take (capture and release) the following mammal, mussel and fish species:

Bat, Gray—Myotis grisescens

Bat, Indiana—Myotis sodalis

Pocketbook, Ouachita rock—Arkansia wheeleri

Bean, rayed—Villosa fabalis

Catspaw, white (pearlymussel)—Epioblasma obliquata perobliqua

Higgins eye (pearlymussel)—Lampsilis higginsii

Mapleleaf, winged—Quadrula fragosa

Mussel, scaleshell—Leptodea leptodon

Mussel, sheepnose—Plethobasus cyphyus

Mussel, snuffbox—Epioblasma triquetra

Pearlymussel, Curtis—Epioblasma florentina curtisii

Purple cat's paw pearlymussel—Epioblasma obliquata obliquata

Spectaclecase (mussel)—Cumberlandia monodonta

Acornshell, southern—Epioblasma othcaloogensis

Bankclimber, purple (mussel)—Elliptoideus sloatianus

Bean, Choctaw—Villosa choctawensis

Bean, Cumberland (pearlymussel)—Villosa trabalis

Blossom, green (pearlymussel)—Epioblasma torulosa gubernaculum

Blossom, tubercled (pearlymussel)—Epioblasma torulosa torulosa

Blossom, turgid (pearlymussel)—Epioblasma turgidula

Blossom, yellow (pearlymussel)—Epioblasma florentina florentina

Clubshell, black—Pleurobema curtum

Clubshell, ovate—Pleurobema perovatum

Clubshell, southern—Pleurobema decisum

Combshell, Cumberlandian—Epioblasma brevidens

Combshell, southern—Epioblasma penita

Combshell, upland—Epioblasma metastriata

Ebonyshell, round—Fusconaia rotulata

Elktoe, Appalachian—Alasmidonta raveneliana

Elktoe, Cumberland—Alasmidonta atropurpurea

Fanshell—Cyprogenia stegaria

Fatmucket, Arkansas—Lampsilis powellii

Heelsplitter, Alabama (=inflated)—Potamilus inflatus

Heelsplitter, Carolina—Lasmigona decorata

Kidneyshell, southern—Ptychobranchus jonesi

Kidneyshell, triangular—Ptychobranchus greenii

Lampmussel, Alabama—Lampsilis virescens

Lilliput, pale (pearlymussel)—Toxolasma cylindrellus

Moccasinshell, Alabama—Medionidus acutissimus

Moccasinshell, Coosa—Medionidus parvulus

Moccasinshell, Gulf—Medionidus penicillatus

Moccasinshell, Ochlockonee—Medionidus simpsonianus

Monkeyface, Cumberland (pearlymussel)—Quadrula intermedia

Mucket, orangenacre—Lampsilis perovalis

Mucket, pink (pearlymussel)—Lampsilis abrupta

Mussel, oyster—Epioblasma capsaeformis

Pearlshell, Alabama—Margaritifera marrianae

Pearlshell, Louisiana—Margaritifera hembeli

Pearlymussel, birdwing—Lemiox rimosus

Pearlymussel, cracking—Hemistena lata

Pearlymussel, dromedary—Dromus dromas

Pearlymussel, littlewing—Pegias fabula

Pigtoe, Cumberland—Pleurobema gibberum

Pigtoe, dark—Pleurobema furvum

Pigtoe, finerayed—Fusconaia cuneolus

Pigtoe, flat—Pleurobema marshalli

Pigtoe, fuzzy—Pleurobema strodeanum

Pigtoe, Georgia—Pleurobema hanleyianum

Pigtoe, heavy—Pleurobema taitianum

Pigtoe, narrow—Fusconaia escambia

Pigtoe, oval—Pleurobema pyriforme

Pigtoe, rough—Pleurobema plenum

Pigtoe, shiny—Fusconaia cor

Pigtoe, southern—Pleurobema georgianum

Pigtoe, tapered—Fusconaia burkei

Pimpleback, orangefoot (pearlymussel)—Plethobasus cooperianus

Pocketbook, fat—Potamilus capax

Pocketbook, finelined—Lampsilis altilis

Pocketbook, shinyrayed—Lampsilis subangulata

Pocketbook, speckled—Lampsilis streckeri

Riffleshell, tan—Epioblasma florentina walkeri (=E. walkeri)

Ring pink (mussel)—Obovaria retusa

Slabshell, Chipola—Elliptio chipolaensis

Spinymussel, Altamaha—Elliptio spinosa

Spinymussel, Tar River—Elliptio steinstansana

Stirrupshell—Quadrula stapes

Three-ridge, fat (mussel)—Amblema neislerii

Wartyback, white (pearlymussel)—Plethobasus cicatricosus

Bean, purple—Villosa perpurpurea

Clubshell—Pleurobema clava

Monkeyface, Appalachian (pearlymussel)—Quadrula sparsa

Rabbitsfoot, rough—Quadrula cylindrica strigillata

Riffleshell, northern—Epioblasma torulosa rangiana

Spinymussel, James—Pleurobema collina

Wedgemussel, dwarf—Alasmidonta heterodon

Darter, Niangua—Etheostoma nianguae

Madtom, Scioto—Noturus trautmani

Cavefish, Ozark—Amblyopsis rosae

Dace, Laurel—Chrosomus saylori

Sculpin, pygmy—Cottus paulus (=pygmaeus)

Shiner, blue—Cyprinella caerulea

Chub, spotfin—Erimonax monachus

Chub, slender—Erimystax cahni

Darter, slackwater—Etheostoma boschungi

Darter, vermilion—Etheostoma chermocki

Darter, relict—Etheostoma chienense

Darter, Etowah—Etheostoma etowahae

Darter, yellowcheek—Etheostoma moorei

Darter, watercress—Etheostoma nuchale

Darter, Okaloosa—Etheostoma okaloosae

Darter, duskytail—Etheostoma percnurum

Darter, rush—Etheostoma phytophilum

Darter, bayou—Etheostoma rubrum

Darter, Cherokee—Etheostoma scotti

Darter, bluemask (=jewel)—Etheostoma sp.

Darter, Cumberland—Etheostoma susanae

Darter, boulder—Etheostoma wapiti

Silverside, Waccamaw—Menidia extensa

Shiner, palezone—Notropis albizonatus

Shiner, Cahaba—Notropis cahabae

Shiner, Cape Fear—Notropis mekistocholas

Madtom, smoky—Noturus baileyi

Madtom, chucky—Noturus crypticus

Madtom, yellowfin—Noturus flavipinnis

Madtom, pygmy—Noturus stanauli

Darter, amber—Percina antesella

Darter, goldline—Percina aurolineata

Logperch, Conasauga—Percina jenkinsi

Darter, snail—Percina tanasi

Dace, blackside—Phoxinus cumberlandensis

Sturgeon, Alabama—Scaphirhynchus suttkusi

Cavefish, Alabama—Speoplatyrhinus poulsoni

Darter, Maryland—Etheostoma sellare

Logperch, Roanoke—Percina rex

Shiner, Topeka—Notropis topeka (=tristis)

Madtom, Neosho—Noturus placidus

Activities are proposed throughout the range of the species which includes the States of Alabama, Arkansas, Connecticut, Delaware, Florida, Georgia, Kentucky, Illinois, Indiana, Iowa, Kansas, Louisiana, Maryland, Massachusetts, Michigan, Minnesota, Mississippi, Missouri, Nebraska, New Hampshire, New Jersey, New York, North Carolina, Pennsylvania, Ohio, Oklahoma, South Carolina, Tennessee, Virginia, West Virginia, and Wisconsin. The purpose of the proposed activities is to conserve and enhance the survival of the species in the wild through population monitoring, habitat assessments, and determination of presence/absence of the species in the wild.

Permit Application Number: TE98111A

Applicant: Ohio Department of Transportation, Columbus, OH.

The applicant requests a permit to take (capture and release/relocate) the following mussel species throughout the State of Ohio: clubshell, fanshell, northern riffleshell, pink mucket pearlymussel, purple catspaw, white catspaw, rayed bean, snuffbox, sheepnose and rabbitsfoot. Proposed activities are for the purpose of conservation and recovery of the species in the wild through project planning and habitat evaluation.

Permit Application Number: TE15027A

Applicant: Stantec Consulting Services, Inc., Columbus, OH.

The applicant requests a permit renewal and amendment to take (capture and release) Indiana bats and gray bats throughout the States of Alabama, Arkansas, Florida, Georgia, Illinois, Indiana, Iowa, Kentucky, Maryland, Michigan, Mississippi, Missouri, New Jersey, New York, North Carolina, Pennsylvania, Ohio, Oklahoma, Tennessee, Vermont, Virginia, West Virginia, and Wisconsin. Proposed activities are for the recovery and enhancement of survival of the species in the wild.

Permit Application Number: TE212440

Applicant: John Chenger, Bat Conservation and Management, Carlisle, PA.

The applicant requests a permit renewal to take (capture and release) Indiana bats and gray bats throughout the States of Alabama, Arkansas, Connecticut, Delaware, Florida, Georgia, Illinois, Indiana, Iowa, Kentucky, Maine, Maryland, Michigan, Mississippi, Missouri, New Hampshire, New Jersey, New York, North Carolina, Pennsylvania, Ohio, Oklahoma, Rhode Island, Tennessee, Vermont, Virginia, West Virginia, and Wisconsin. Proposed activities are for the recovery and enhancement of survival of the species in the wild.

Permit Application Number: TE113009

Applicant: Steven Ahlstedt, Norris, TN.

The applicant requests a permit amendment to include the following mussel species: Littlewing pearly mussel, Fluted kidneyshell (Ptychobranchus subbtentum), Cumberland bean, Cumberland Combshell, and Tan Riffleshell. The proposed amendment includes expanding the geographic area in which the applicant may work to include locations within Kentucky. Proposed activities are for the recovery and enhancement of survival of the species in the wild.

Permit Application Number: TE98294A

Applicant: Normandeau Associates, Stowe, PA.

The applicant requests a permit to take (capture and release) Indiana bats throughout the State of Ohio. Proposed activities are for the recovery and enhancement of survival of the species in the wild.

Permit Application Number: TE212427

Applicant: Ecology and Environment, Inc., Lancaster, NY.

The applicant requests a permit renewal and amendment to take (capture and release) Indiana bats, gray bats, Virginia big eared bats (Corynorhinus townsendii virginianus), and Ozark big-eared bats throughout the States of Alabama, Arkansas, Connecticut, Delaware, Florida, Georgia, Illinois, Indiana, Iowa, Kentucky, Maryland, Massachusetts, Michigan, Mississippi, Missouri, New Hampshire, New Jersey, New York, North Carolina, Pennsylvania, Ohio, Oklahoma, Rhode Island, South Carolina, Tennessee, Vermont, Virginia, West Virginia, and Wisconsin. Proposed activities are for the recovery and enhancement of survival of the species in the wild.

Permit Application Number: TE98295A

Applicant: Dallas Scott Settle, DBA Alliance Consulting, Fayetteville, WV.

The applicant requests a permit to take (capture and release) Indiana bats, gray bats, and Virginia big eared bats within the States of Illinois and West Virginia. Proposed activities are for the recovery and enhancement of survival of the species in the wild.

Permit Application Number: TE98296A

Applicant: Braden A. Hoffman, DBA Alliance Consulting, Fayetteville, WV.

The applicant requests a permit to take (capture and release) Indiana bats and gray bats throughout the range of the species: Alabama, Arkansas, Delaware, Florida, Georgia, Kentucky, Illinois, Indiana, Iowa, Maryland, Michigan, Mississippi, Missouri, New York, New Hampshire, North Carolina, Pennsylvania, Ohio, South Carolina, Tennessee, Virginia, West Virginia, and Wisconsin. Proposed activities are for the recovery and enhancement of survival of the species in the wild.

Permit Application Number: TE82665A

Applicant: Melody L. Myers-Kinzie, Indianapolis, IN.

The applicant requests a permit amendment to add rabbitsfoot and spectaclecase mussels to the list of mussels on her permit to take (capture and release) mussel species for the purpose of enhancement of survival of the species in the wild. The proposed amendment also includes adding the States of Illinois, Iowa, and Michigan to the scope of the permit.

Permit Application Number: TE98298A

Applicant: Ohio Environmental Protection Agency, Groveport, OH.

The applicant requests a permit to take (capture and release; salvage dead specimens) mussels within Ohio's streams and rivers. Federally listed species proposed to be included on the permit are: clubshell, fanshell, northern riffleshell, pink mucket pearlymussel, purple catspaw, rabbitsfoot, rayed bean, sheepnose, snuffbox, and white catspaw. Proposed activities are for the conservation and recovery of the species through evaluation and protection of habitats.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: March 7, 2013.
Lynn M. Lewis,
Assistant Regional Director, Ecological Services, Midwest Region.

[FR Doc. 2013-05824 Filed 3-13-13; 8:45 am]

BILLING CODE 4310-55-P